DEPARTMENT OF VETERANS AFFAIRS

Cost-Based and Inter-Agency Billing Rates for Medical Care or Services Provided by the Department of Veterans Affairs

AGENCY: Department of Veterans Affairs.

ACTION: Notice.

SUMMARY: This document updates the Cost-Based and Inter-Agency billing rates for medical care or services provided by the Department of Veterans Affairs (VA) that apply in certain circumstances.

DATES: The rates set forth herein are effective July 7, 2016 and until further notice.

FOR FURTHER INFORMATION CONTACT: Romona Greene, Chief Business Office (10NB), Veterans Health Administration, Department of Veterans Affairs, 810 Vermont Avenue NW., Washington, DC 20420, (202) 382-2521. (This is not a toll free number.)

SUPPLEMENTARY INFORMATION: VA's methodology for computing Cost-Based and Inter-Agency billing rates for medical care or services provided by VA is set forth in 38 CFR 17.102(h). Two sets of rates are obtained by applying this methodology, Cost-Based rates and Inter-Agency rates. Cost-Based rates apply to medical care and services that are provided by VA:

(a) In error or based on tentative eligibility;

(b) In a medical emergency;

(c) To pensioners of allied nations; and

(d) For research purposes in circumstances under which the VA Medical Services appropriation is to be reimbursed by the VA Research appropriation.

Inter-Agency rates apply to medical care and services that are provided by VA to beneficiaries of the Department of Defense (DoD) or other Federal agencies, when the care or services provided is not covered by an applicable sharing agreement. The Inter-Agency rates contained in this notice do not apply to sharing agreements between VA and DoD, unless otherwise stated. The calculations for the Cost-Based and Inter-Agency rates are the same with two exceptions. Inter-Agency rates are all-inclusive, and are not broken down into three components (Physician; Ancillary; and Nursing, Room and Board), and Inter-Agency rates do not include standard fringe benefit costs that cover government employee retirement, disability costs, and return on fixed assets. When VA pays for medical care or services from a non-VA source under circumstances in which the Cost-Based or Inter-Agency Rates would apply if the care or services had been provided by VA, the charge for such care or services will be the actual amount paid by VA for the care or services. Inpatient charges will be at the per diem rates shown for the type of bed section or discrete treatment unit providing the care.

The following table depicts the Cost-Based and Inter-Agency Rates that are effective upon publication of this notice and will remain in effect until the next Federal Register notice is published. These rates supersede those established by the Federal Register notice published on November 4, 2014, at 79 FR 65479.

| Cost-based rates | Inter-agency rates
A. Hospital Care per inpatient day:
General Medicine:
All Inclusive Rate | $3,720 | $3,553
Physician | 445 |
Ancillary | 969 |
Nursing Room and Board | 2,306 |
Neurology:
All Inclusive Rate | 3,564 | 3,401
Physician | 522 |
Ancillary | 941 |
Nursing Room and Board | 2,101 |
Rehabilitation Medicine:
All Inclusive Rate | 2,477 | 2,354
Physician | 281 |
Ancillary | 757 |
Nursing Room and Board | 1,439 |
Blind Rehabilitation:
All Inclusive Rate | 1,741 | 1,653
Physician | 140 |
Ancillary | 865 |
Nursing Room and Board | 736 |
Spinal Cord Injury:
All Inclusive Rate | 2,631 | 2,502
Physician | 326 |
Ancillary | 662 |
Nursing Room and Board | 1,643 |
Surgery:
All Inclusive Rate | 5,910 | 5,642
Physician | 651 |
Ancillary | 1,793 |
Nursing Room and Board | 3,466 |
General Psychiatry:
All Inclusive Rate | 1,771 | 1,679
Physician | 167 |
Ancillary | 279 |
Nursing Room and Board | 1,325 |
Substance Abuse (Alcohol and Drug Treatment):
All Inclusive Rate | 1,861 | 1,765
Physician | 178 |
Ancillary | 431 |
Nursing Room and Board | 1,252 |
Psychosocial Residential Rehabilitation Program:
All Inclusive Rate | 695 | 662
Physician | 44 |
Ancillary | 73 |
Nursing Room and Board | 578 |
Intermediate Medicine:
All Inclusive Rate | 2,233 | 2,126
Physician | 110 |
Ancillary | 328 |
Nursing Room and Board | 1,795 |
Poly-trauma Inpatient:
All Inclusive Rate | 3,227 | 3,057
Physician | 367 |
Ancillary | 986 |
Nursing Room and Board | 1,874 |
B. Nursing Home Care, Per Day:
All Inclusive Rate | 1,197 | 1,138
Physician | 37 |
Ancillary | 162 |
Nursing Room and Board | 998 |
C. Outpatient Medical Treatments:
Outpatient Visit (to include Ineligible Dental Care) | 335 | 319
Outpatient Physical Medicine & Rehabilitation Service Visit | 212 | 199
Outpatient Poly-trauma/Traumatic Brain Injury | 537 | 510
Note: Outpatient Prescriptions will be billed at Drug Cost plus Administrative Fee.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on June 30, 2016, for publication.

Dated: June 30, 2016.
Jeffrey Martin,
Office Program Manager, Office of Regulation Policy & Management, Office of the Secretary, Department of Veterans Affairs.

[FR Doc. 2016-15956 Filed 7-6-16; 8:45 am]

BILLING CODE 8320-01-P